DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: May 7, 2008, 8:30 a.m. to 5 p.m.; May 9, 2008, 8:30 a.m. to 3 p.m.

Place: Hilton Washington DC/Rockville Executive Meeting Center, 1750 Rockville Pike, Rockville, MD 20852, Telephone: 301-468-1100.

Status: The meeting will be open to the public.

Purpose: The Committee will focus on rural issues and how the Title VII Interdisciplinary, Community-Based Training Grant Programs identified under sections 751-756, Part D of the Public Health Service Act can respond to the current rural healthcare workforce needs. The Committee has invited speakers to highlight various topics related to rural healthcare workforce issues including, but not limited to, discipline specific shortages; recruitment and retention; health professions training; faculty development; telemedicine; and other specific rural health care issues. The meeting will afford committee members with the opportunity to identify and discuss the current status of the healthcare workforce in rural America and formulate appropriate recommendations to the Secretary and to the Congress regarding a variety of training strategies to address the health workforce shortage issues.

Agenda: The ACICBL agenda includes an overview of the Committee's general business activities, presentations by experts on rural healthcare workforce related issues, and discussion sessions specific for the development of recommendations to be addressed in the Eighth Annual ACICBL Report.

Agenda items are subject to change as dictated by the priorities of the Committee.

Supplementary Information: The ACICBL will join the Council on Graduate medical Education (COGME), the National Advisory Council on Nurse Education and Practice (NACNEP), and the Advisory Committee on Training in Primary Care Medicine and Dentistry (ACTPCMD) on May 8, 2008, for the first Bureau of Health Professions (BHPr) All Advisory Committee Meeting. Please refer to the Federal Register notice for the BHPr All Advisory Committee Meeting for additional details.

For Further Information Contact: Anyone requesting information regarding the ACICBL should contact Louis D. Coccodrilli, Designated Federal Official for the ACICBL, Bureau of Health Professions, Health Resources and Services Administration, Parklawn Building, Rm 9-05, 5600 Fishers Lane, Rockville, Maryland 20857, (301) 443-6950 or lcoccodrilli@hrsa.gov. Additionally, Adriana Guerra, Public Health Fellow, can be contacted at (301) 443-6194 or aguerra@hrsa.gov.

Dated: April 3, 2008.
Alexandra Huttinger,
Director, Division of Policy Review and Coordination.

[FR Doc. E8-7586 Filed 4-9-08; 8:45 am]

BILLING CODE 4165-15-P